DEPARTMENT OF LABOR

Employment and Training Administration

[NAFTA-003919]

Jenny K. Fashions, Meriden, Connecticut; Negative Determination Regarding Eligibility To Apply for NAFTA-Transitional Adjustment Assistance

Pursuant to Title V of the North American Free Trade Agreement Implementation Act (Pub. L. 103-132) concerning transitional adjustment assistance, hereinafter called NAFTA-TAA and in accordance with section 250(a), subchapter D, chapter 2, title II, of the Trade Act of 1974, as amended (19 U.S.C. 2331), the Department of Labor herein presents the results of an investigation regarding certification of eligibility to apply for NAFTA-TAA.

In order to make an affirmative determination and issue a certification of eligibility to apply for NAFTA-TAA, the following group eligibility requirements in paragraph (a)(1) of section 250 of the Trade Act must be met:

(1) that a significant number or proportion of the workers in such workers' firm or an appropriate subdivision (including workers in any agricultural firm or appropriate subdivision thereof) have become totally or partially separated from employment and either—

(2) that sales or production, or both, of such firm or subdivision have decreased absolutely,

(3) and that imports from Mexico or Canada of articles like or directly competitive with articles produced by such firm or subdivision have increased, and the increases in imports contributed importantly to such workers' separations or threat of separation and to the decline in the sales or production of such firm or subdivision; or

(4) that there has been a shift in production by such workers' firm or subdivision to Mexico or Canada of articles like or directly competitive with articles which are produced by the firm or subdivision.

The investigation was initiated on May 11, 2000 in response to a petition filed on behalf of workers at Jenny K. Fashions, Meriden, Connecticut. Workers produced ladies' blazers and jackets.

The investigation revealed that criteria (3) and (4) were not met.

The subject firm closed in April 2000. Prior to the closure, the subject firm experienced declines in production and employment in 1999 compared to 1998 and in January-April 2000 compared to the same period in 1999.

U.S. imports of wool women's and girls' coats from Mexico decreased in the year ending April 2000 compared to the same period in 1999. In the year ending April 2000, the ratio of imports from Canada and Mexico to total world imports were less than 13%.

The company itself had no imports from Canada or Mexico of articles that are like or directly competitive with articles produced by the subject firm. Nor does it plan to import such articles from Canada or Mexico. Also, there was no shift of production from the subject firm to Canada or Mexico.

The U.S. Department of Labor conducted a survey of the manufacturer for whom the subject firm performed contract work in 1998 and 1999. The survey revealed that none of the customers had any imports of these products from Canada or Mexico during the relevant period.

Conclusion

After careful review, I determine that all workers at Jenny F. Fashions, Meriden, Connecticut are denied eligibility to apply for NAFTA-TAA under Section 250 of the Trade Act of 1974.

As a result of the Department's denial for transitional adjustment assistance on the subject petition, an investigation will be instituted for Trade Adjustment Assistance under Section 223 of the Trade Act (19 U.S.C. 2273) to determine whether increased imports contributed importantly to worker separations and declines in sales or production at the workers' firm or appropriate subdivision of the workers' firm. The petition number assigned to the TAA investigation is TA-W-38,025.

Signed in Washington, DC, this 25th day of July 2000.
Linda G. Poole,
Certifying Officer, Division of Trade Adjustment Assistance.

[FR Doc. 00-30622 Filed 11-30-00; 8:45 am]

BILLING CODE 4510-30-M